DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency (FEMA) has submitted the following information collection to the Office of Management and Budget (OMB) for review and clearance in accordance with the requirements of the Paperwork Reduction Act of 1995 (44 U.S.C. chapter 35). The submission describes the nature of the information collection, the category of respondents, the estimated burden (i.e., the time, effort and resources used by respondents to respond) and cost, and includes the actual data collection instruments FEMA will use.

Title: National Fire Academy Course Evaluation Form.

Type of Information Collection: Revision of a currently approved collection.

OMB Number: 1660-0032.

Abstract: The National Fire Academy Course Evaluation Form is used to monitor the effectiveness of course materials, the training facilities and instructor delivery. Information collected with the form enables NFA staff to monitor and recommend changes in course materials, subject selection criteria, the training experience and the classroom environment. From the processed data, reports are generated and distributed to management and staff. Without such information, it would be difficult to determine the need for improvements and the degree of student satisfaction with the course experience.

Affected Public: Individuals or households.

Number of Respondents: 5,800.

Estimated Time per Respondent: 15 minutes.

Estimated Total Annual Burden Hours: 1,450.

Frequency of Response: On occasion and annually.

Comments: Interested persons are invited to submit written comments on the proposed information collection to the Office of Information and Regulatory Affairs at OMB, Attention: Desk Officer for the Department of Homeland Security/FEMA at e-mail address kflee@omb.eop.gov or facsimile number (202) 395-7285. Comments must be submitted on or before March 18, 2004. In addition, interested persons may also send comments to FEMA (see contact information below).

FOR FURTHER INFORMATION CONTACT: Requests for additional information or copies of the information collection should be made to Muriel B. Anderson, Chief, Records Management Branch, FEMA at 500 C Street, SW., Room 316, Washington, DC 20472, facsimile number (202) 646-3347, or e-mail address InformationCollections@fema.gov.

Dated: February 5, 2004.
Edward W. Kernan,
Division Director, Information Resources Management Division, Information Technology Services Directorate.

[FR Doc. 04-3339 Filed 2-13-04; 8:45 am]

BILLING CODE 9110-01-P